DEPARTMENT OF AGRICULTURE

Rural Utilities Service

Dairyland Power Cooperative, Notice of Availability of an Environmental Assessment

AGENCY: Rural Utilities Service, USDA.

ACTION: Notice of availability of an environmental assessment.

SUMMARY: Notice is hereby given that the Rural Utilities Service (RUS) is publishing an environmental assessment (EA) for a project proposed by Dairyland Power Cooperative (DPC) of La Crosse, Wisconsin. The project consists of constructing a coal ash landfill at its existing Alma Off-site disposal facility. The project is located in the NE¼ of the NE¼ of section 19 and portions of sections 18 and 20, T21N, R12W, town of Belvidere, Buffalo County, Wisconsin. The proposed landfill will be an expansion of DPC's existing facility. All construction activity will take place on property owned by DPC. RUS proposes to provide financial assistance to DPC for this project.

FOR FUTHER INFORMATION CONTACT: Nurul Islam, Environmental Protection Specialist, Rural Utilities Service, Engineering and Environmental Staff, Stop 1571, 1400 Independence Avenue, SW, Washington, DC 20250-1571, telephone: (202) 720-1414; e-mail: nislam@rus.usda.gov. Information is also available from Bradley P. Foss, Environmental Biologist, DPC, 3200 East Avenue South, La Crosse, Wisconsin 54601, telephone (608) 787-1492, FAX: (608) 787-1490. His e-mail address is: . RUS seeks written comments on the DPC proposal. Written comments should be submitted to RUS within 30 days of the publication of this notice to the above address.

SUPPLEMENTARY INFORMATION: DPC proposes to construct the facility at a site in Buffalo County, Wisconsin. DPC is continuing with the landfill siting and development process for a 32-acres noncontiguous coal ash disposal area at their existing Alma Off-site disposal facility. In addition to the 32 acres required for the ash disposal area, approximately another 32 acres will be required to develop access roads, berms, ditches, sedimentation basins, and temporary stock piles. Soil required for construction of the sub-base, perimeter berms, and the final covering of the disposal area will be obtained from on-site sources. The construction and operation of the facility will not be visible from any public roads or private residences. The anticipated life of the landfill is about 13.9 years at the present disposal rates.

The EA is available for public review at the RUS or the headquarters of DPC at the addresses provided in this notice and at the following locations:

• Buffalo County Clerk's Office, Buffalo County Courthouse, 407 South 2nd Street, Alma, Wisconsin 54610, Tel: (608) 685-6209

Questions and comments should be sent to RUS at the address provided in this notice. RUS will accept questions and comments on the EA for 30 days from the date of publication of this notice.

Any final action by RUS related to the proposed project will be subject to, and contingent upon, compliance with all relevant Federal environmental laws and regulations and completion of environmental review procedures as prescribed by the 7 CFR Part 1794, Environmental Policies and Procedures.

Dated: January 5, 2001.
Lawrence R. Wolfe,
Acting Director, Engineering and Environmental Staff.

[FR Doc. 01-1019 Filed 1-11-01; 8:45 am]

BILLING CODE 3410-15-P